DEPARTMENT OF HEALTH AND HUMAN SERVICES

Centers for Disease Control and Prevention

[Program Announcement 03122]

Cancer Prevention and Control Activities; Notice of Availability of Funds

Application Deadline: July 21, 2003.

A. Authority and Catalog of Federal Domestic Assistance Number

This program is authorized under sections 301(a), 317(k)(2) of the Public Health Service Act, (42 U.S.C. 241(a) and 247b(k)(2)), as amended. The Catalog of Federal Domestic Assistance number is 93.283.

B. Purpose

The Centers for Disease Control and Prevention (CDC) announces the availability of fiscal year (FY) 2003 funds for a cooperative agreement program for Cancer Prevention and Control Activities. This program addresses the “Healthy People 2010” focus area(s) related to Cancer, Tobacco Use, Physical Activity, and Nutrition.

The purpose of the program is to assist with the following: Developing and disseminating current national, state, and community-based comprehensive information on cancer prevention (including addressing risk factors such as tobacco use, poor nutrition and lack of physical activity), early detection, diagnosis, treatment, and survivorship; developing and disseminating professional education programs; promoting the analysis and development of surveillance and research data, and its translation into public health messages, practice and programs; and, facilitating the exchange of expertise and coordination of programmatic efforts related to cancer prevention and control among a variety of public, private, and not-for-profit agencies at the national, state, tribal, territory and community level.

Measurable outcomes of the program will be in alignment with one or more of the following performance goals for the National Center for Chronic Disease Prevention and Health Promotion (NCCDPHP):

• Reduce cigarette smoking among youth.

• Increase the capacity of state nutrition and physical activity programs to address the prevention of chronic diseases and obesity at the community level.

C. Eligible Applicants

Applications may be submitted by national:

• Public nonprofit organizations

• Private nonprofit organizations

• Faith-based organizations.

National organizations that serve as an umbrella organization for their constituents (regional, state or local chapters or memberships) provide a unique opportunity to address cancer prevention and control using a comprehensive approach.

Note: Title 2 of the United States Code section 1611 states that an organization described in section 501(c)(4) of the Internal Revenue Code that engages in lobbying activities is not eligible to receive Federal funds constituting an award, grant or loan.

D. Funding

Availability of Funds

Approximately $1,248,000 is available in FY 2003 to fund one award that will include all four projects listed below. It is expected that the award will begin on or about September 15, 2003 and will be made for a 12-month budget period within a project period of up to five years. Funding estimates may change.

Continuation awards within an approved project period will be made on the basis of satisfactory progress as evidenced by required reports and the availability of funds.

Project 1. Coordinated School Health Programs

Approximately $300,000 is available to support coordinated school health programs for cancer prevention and control for school-aged populations, parents, and relevant health and education personnel.

Project 2. Comprehensive Cancer Control Activities

Approximately $850,000 will be available to plan, implement, and evaluate cancer prevention and control activities for the public, providers and decision-makers with a focus on the following areas: Cancer risk factors, comprehensive cancer control, and breast, cervical, ovarian, prostate, skin, and colorectal cancers.

Project 3. Addressing Women and Tobacco Use

Approximately $38,000 is available to support activities that address the complex issues of tobacco use among women and girls internationally.

Project 4. Evaluation of Cancer Prevention and Control Activities

Approximately $60,000 is available to support activities that identify gaps in evaluation of cancer prevention and control activities and the need for dissemination of best approaches and practices to conduct competent evaluations of cancer prevention and control activities.

Use of Funds

Funds may not be used for the purchase or lease of land or buildings, construction of facilities, renovation of existing space, or the delivery of clinical or therapeutic services.

Recipient Financial Participation

Matching funds are not required for this program.

E. Program Requirements

In conducting activities to achieve the purpose of this program, the recipient will be responsible for the activities under 1. Recipient Activities, and CDC will be responsible for the activities listed under 2. CDC Activities.

1. Recipient Activities

Project 1. Coordinated School Health Programs

a. Support Coordinated School Health Programs, with a special emphasis on four risk factors: tobacco use, excessive consumption of fat and calories, inadequate physical activity, and obesity.

b. Support local, state, and national coalitions to improve Coordinated School Health Programs.

c. Collaborate with CDC funded and other national, non-governmental organizations in support of school health programs.

Project 2. Comprehensive Cancer Control Activities

a. Collaborate with state health departments and national cancer prevention and control organizations on comprehensive cancer control training, planning, implementation, and evaluation activities. Develop leadership models for state health departments and other cancer control partners to utilize. Deliver technical assistance to state health departments and other cancer control partners through training and communication networks.

b. Coordinate and support activities related to colorectal and skin cancer education and awareness for both the public and medical providers. Collaborate with state health departments and other national cancer prevention and control organizations in the replication and evaluation of colorectal cancer training for providers and health care systems that promotes informed decision-making and provides current and balanced information on the benefits and limitations of prevention, screening and treatment for colorectal cancer. Collaborate with state departments of health and departments of education to promote evaluation and dissemination of skin cancer prevention education programs and implementation of school-based sun protection policies through collaboration with Coordinated School Health Programs and state and local comprehensive cancer control partners.

c. Identify opportunities for cancer issues management forums, including priority cancer sites and risk factors; coordinate and support cancer issues management forums among a variety of public, private, and not-for-profit agencies at the national, state, tribal and community level.

Project 3. Addressing Women and Tobacco Use

a. Provide contacts, primarily women, to individuals and organizations working in tobacco control; collect and distribute information regarding global women and tobacco issues; and share strategies to counter tobacco advertising and promotion.

b. Support the development of women-centered tobacco use prevention and cessation programs.

c. Assist in the organization and planning of conferences on tobacco control.

d. Collaborate on the development of publications regarding women and tobacco issues.

e. Promote female leadership in the development of tobacco control organizations internationally.

Project 4. Evaluation of Cancer Prevention and Control Activities

a. Collaborate with CDC and other national, state and local organizations to provide training to public and not-for-profit program staff and researchers on cancer prevention and control (and other related chronic diseases) program evaluation.

b. Identify gaps in evaluation of cancer prevention and control activities; based on findings, determine methods for dissemination of best approaches and practices to conduct competent evaluations of cancer prevention and control activities.

Performance Measures

Performance will be measured by the extent to which recipients:

• Identify and address needs and strengthen the leadership capacity of school health program personnel to promote, develop, implement, and evaluate coordinated school health programs.

• Identify needs and strengthen the national, state and local coalitions' capacity to support development and implementation of effective coordinated school health programs.

• Collaborate with CDC Division of Adolescent and School Health-funded and other national grantees to strengthen the capacity of school health personnel and state and local coalitions in support of coordinated school health programs.

• Collaborate with state health departments and national cancer prevention and control organizations to strengthen their capacity to plan, implement and evaluate comprehensive cancer control activities.

• Collaborate with state health departments and national cancer prevention and control organizations to support activities related to colorectal and skin cancer education and awareness for both the public and medical providers.

• Identify, coordinate and support cancer issues management forums among a variety of public, private, and not-for profit agencies at the national, state, tribal and community level.

• Promote tobacco use prevention initiatives internationally among women and girls via conferences, forums or other mechanisms of information sharing.

• Collaborates with CDC and other national, state and local organizations to provide to public and not-for-profit program staff and researchers on cancer prevention and control program evaluation.

• Identify gaps in evaluation of cancer prevention and control activities and determine methods for dissemination of best approaches and practices to conduct competent evaluations of cancer prevention and control activities.

2. CDC Activities

a. Collaborate with the recipient in the development and dissemination of cancer prevention and control information and activities at national, state, and community-based levels.

b. Provide, to the recipient, relevant state-of-the-art research findings and public health recommendations related to cancer prevention and control.

c. Provide, to the recipient, periodic updates regarding comprehensive cancer control, including information on best practices related to coordination and integration of cancer prevention (including addressing risk factors such as tobacco use, poor nutrition and lack of physical activity), early detection, diagnosis, treatment, and survivorship activities.

d. Give guidance on cancer issues management topics to be considered and timing of consideration.

e. Collaborate with recipients in the development of publications, manuals, modules, etc. that relate to the purpose of this program announcement.

f. Facilitate the exchange of program information, technical assistance, and the development of partnerships between recipient and other relevant national, state and community-based organizations.

F. Content

Letter of Intent (LOI)

A LOI is required for this program. The Program Announcement title and number must appear in the LOI. The narrative should be no more than two pages, double-spaced, printed on one side, with one-inch margins, and unreduced 12-point font. Your letter of intent will be used to enable CDC to determine the level of interest in the program announcement, and should include the following information: program announcement number, name of applicant (organization), and name and contact information for the principal investigator.

Applications

The Program Announcement title and number must appear in the application. Use the information in the Program Requirements, Other Requirements, and Evaluation Criteria sections to develop the application content. Your application will be evaluated on the criteria listed, so it is important to follow them in laying out your program plan. The narrative should be no more than 30 pages, double-spaced, printed on one side, with one-inch margins, and unreduced 12-point font. Applicants may also submit appendices (including curriculum vitae, job descriptions, organizational charts, and any other supporting documentation), which should not exceed an additional 20 pages.

A narrative is required that contains each of the following application content areas:

1. Statement of Need

Identify opportunities for enhancement and/or improvement of and existing gaps in the support of cancer prevention and control activities on the national, state and local level. Describe the extent to which the proposed programs will fill existing gaps and provide a brief description of each activity.

2. Work Plan

Submit a narrative and work plan (work plan may be submitted in a table format) for each project that establishes goals, objectives, strategies, measures of effectiveness, responsible staff and time lines. In the narrative, provide a concise description of each project and how it will be implemented over the five-year project period. Work plan objectives must be specific, measurable, attainable, time-phased and realistic. The work plan should address only activities to be conducted during the first year of the project period.

3. Management Plan

Submit a narrative for each project that describes a proposed management structure that addresses the use of qualified and diverse technical, program, administrative staff, organizational relationships (in the appendices provide a copy of the organizational chart indicating the placement of the proposed or existing programs in a department or agency), internal and external communication systems, and a system for sound fiscal management. Describe previous experience with cancer prevention and control activities that would contribute to your ability to support the projects described in this program announcement.

4. Evaluation Plan

For each project, submit a quantitative plan for monitoring progress toward achieving each of the objectives in the work plan.

5. Budget and Justification

Provide separate budgets for each of the four projects described in this program announcement. Submit a detailed budget and narrative justification that is consistent with the purpose of the program and is related to the proposed activities.

G. Submission and Deadline

Letter of Intent (LOI) Submission

On or before July 7, 2003, submit the LOI to the Grants Management Specialist identified in the “Where to Obtain Additional Information” section of this announcement.

Application Forms

Submit the signed original and two copies of PHS 5161-1 (OMB Number 0920-0428). Forms are available at the following Internet address: http://www.cdc.gov/od/pgo/forminfo.htm.

If you do not have access to the Internet, or if you have difficulty accessing the forms on-line, you may contact the CDC Procurement and Grants Office Technical Information Management Section (PGO-TIM) at: 770-488-2700. Application forms can be mailed to you.

Submission Date, Time, and Address

The application must be received by 4 p.m. eastern time July 21, 2003. Submit the application to: Technical Information Management—PA #03122, Procurement and Grants Office, Centers for Disease Control and Prevention, 2920 Brandywine Rd, Atlanta, GA 30341-4146.

Applications may not be submitted electronically.

CDC Acknowledgement of Application Receipt

A postcard will be mailed by PGO-TIM, notifying you that CDC has received your application.

Deadline

Letters of intent and applications shall be considered as meeting the deadline if they are received before 4 p.m. eastern time on the deadline date. Any applicant who sends an application by the United States Postal Service or commercial delivery services must ensure that the carrier will be able to guarantee delivery of the application by the closing date and time. If an application is received after closing due to (1) carrier error, when the carrier accepted the package with a guarantee for delivery by the closing date and time, or (2) significant weather delays or natural disasters, CDC will upon receipt of proper documentation, consider the application as having been received by the deadline.

Any application that does not meet the above criteria will not be eligible for competition, and will be discarded. The applicant will be notified of this failure to meet the submission requirements.

H. Evaluation Criteria

Application

Applicants are required to provide measures of effectiveness that will demonstrate the accomplishment of the various identified objectives of the cooperative agreement. Measures of effectiveness must relate to the performance goals as stated in section “B. Purpose” of this announcement. Measures must be objective and quantitative and must measure the intended outcome. These measures of effectiveness shall be submitted with the application and shall be an element of evaluation.

An independent review group appointed by CDC will evaluate each application against the following criteria:

1. Work Plan (40 points)

The extent to which the narrative provides a concise description of the overall work to be conducted during the five-year project period. The extent to which the work plan is feasible, appropriate, reasonable and provides a clear description of how the project will be implemented during the first year of the project period.

2. Evaluation Plan (30 points)

The extent to which the evaluation plan will allow the applicant to monitor progress toward meeting project objectives.

3. Management Plan (20 points)

The feasibility and clarity of the proposed management plan. The extent to which the plan addresses the use of qualified and diverse staff, and describes internal and external communications systems and prior experience with conducting activities described in this program announcement.

4. Statement of Need (10 points)

The extent to which the applicant identifies opportunities and existing gaps related to the purpose of the program announcement.

5. Budget and Justification (not scored)

The extent to which the proposed budget is adequately justified, reasonable, and consistent with this program announcement and the applicant's proposed activities.

6. Human Subjects Protections (not scored)

Does the application adequately address the requirements of title 45 CFR part 46 for the protection of human subjects? Not scored; however, an application can be disapproved if the research risks are sufficiently serious and protection against risks is so inadequate as to make the entire application unacceptable.

I. Other Requirements

Technical Reporting Requirements

Provide CDC with original plus two copies of:

1. An interim progress report. The interim progress report will be due on the 15th of April each year through 2008. This interim progress report will serve as your non-competing continuation application. A second report is due 90 days after the end of each budget period. These reports must include the following elements:

a. A succinct description of the program accomplishments and progress made in meeting each Current Budget Period Activities Objectives during the previous six months of the budget period.

b. A succinct description of the program accomplishments/narrative and progress made in meeting each Current Budget Period Activities Objectives during the previous six months of the budget period.

c. The reason(s) for not meeting established program objectives and strategies to be implemented to achieve unmet objectives.

d. Current Budget Period Financial Progress.

e. New Budget Period Proposed Activities and Objectives.

f. Detailed Line-Item Budget and Justification.

g. For all proposed contracts, provide the name of contractor, method of selection, period of performance, scope of work, and itemized budget and budget justification. If the information is not available, please indicate “To Be Determined” until the information becomes available; it should be submitted to CDC Procurement and Grants Management Office contact identified in this program announcement.

2. Financial status report, no more than 90 days after the end of the budget period. The financial status report should include an attachment that identifies unspent balances for each program component.

3. Final financial and performance reports, no more than 90 days after the end of the project period.

Send all reports to the Grants Management Specialist identified in the “Where to Obtain Additional Information” section of this announcement.

Additional Requirements

The following additional requirements are applicable to this program. For a complete description of each, see Attachment I of the program announcement as posted on the CDC Web site.

AR-1 Human Subjects Requirement

AR-9 Paperwork Reduction Act Requirements

AR-10 Smoke-Free Workplace Requirements

AR-11 Healthy People 2010

AR-12 Lobbying Restrictions

AR-20 Conference Support

Executive Order 12372 does not apply to this program.

J. Where To Obtain Additional Information

This and other CDC announcements, the necessary applications, and associated forms can be found on the CDC Web site, Internet address: http://www.cdc.gov. Click on “Funding” then “Grants and Cooperative Agreement”.

For general questions about this announcement, contact: Technical Information Management, CDC Procurement and Grants Office, 2920 Brandywine Rd, Atlanta, GA 30341-4146. Telephone: 770-488-2700.

For business management and budget assistance, contact: Nealean Austin, Grants Management Specialist, Procurement and Grants Office, Centers for Disease Control and Prevention, 2920 Brandywine Road, Atlanta, GA 30341-4146. Telephone: 770-488-2754. e-mail address: nea1@cdc.gov.

For program technical assistance, contact: Leslie Given, MPA, Public Health Advisor, Division of Cancer Prevention and Control, 4770 Buford Highway, NE., Mailstop K-57, Atlanta, GA 30341. Telephone: 770-488-3099. e-mail address: lgiven@cdc.gov.

Dated: June 13, 2003.
Edward Schultz,
Acting Director, Procurement and Grants Office, Centers for Disease Control and Prevention.

[FR Doc. 03-15591 Filed 6-19-03; 8:45 am]

BILLING CODE 4163-18-P